POSTAL REGULATORY COMMISSION

39 CFR Part 3020

[Docket Nos. MC2012-49, et al.]

Product List Update

AGENCY: Postal Regulatory Commission.

ACTION: Final rule.

SUMMARY: The Commission is updating the postal competitive product list. This action reflects the disposition of recent dockets, as reflected in Commission orders, and a publication policy adopted in a Commission order. The referenced policy assumes periodic updates. The updates are identified in the body of this document. The product lists, which are republished in their entirety, include these updates.

DATES: Effective Date: August 20, 2013.

Applicability Dates: October 11, 2012 (First-Class Package Service Contract 16 (MC2012-49 and CP2012-61)); (First-Class Package Service Contract 17) (MC2012-50 and CP2012-62)); (First-Class Package Service Contract 18 (MC2012-51 and CP2012-63)); (First-Class Package Service Contract 19 (MC2012-52 and CP2012-64)); (First-Class Package Service Contract 20 (MC2012-53 and CP2012-65)); (Express Mail & Priority Mail Contract 10 (MC2012-54 and CP2012-66)); and (Priority Mail Contract 44 (MC2013-2 and CP2013-2)); October 22, 2012 (Express Mail & Priority Mail Contract 11 (MC2013-1 and CP2013-1)).

FOR FURTHER INFORMATION CONTACT: Stephen L. Sharfman, General Counsel, at stephen.sharfman@prc.gov or 202-789-6820.

SUPPLEMENTARY INFORMATION: This document identifies recent updates to the competitive product list, which appear as 39 CFR Appendix A to Subpart A of Part 3020—Mail Classification Schedule.¹ Publication of updated product lists in the Federal Register is consistent with the Postal Accountability and Enhancement Act (PAEA) of 2006.

¹ Docket No. MC2012-16; and Docket No. CP2011-54.

Authorization. The Commission process for periodic publication of updates was established in Order No. 445, April 22, 2010.

Changes. Since publication of the product lists in the Federal Register on March 6, 2012 (77 FR 13198), the following changes to the competitive product list have been made:

1. First-Class Package Service Contract 16 (MC2012-49 and CP2012-61), added October 11, 2012 (Order No. 1494);

2. First-Class Package Service Contract 17 (MC2012-50 and CP2012-62), added October 11, 2012 (Order No. 1495);

3. First-Class Package Service Contract 18 (MC2012-51 and CP2012-63) (Order No. 1496);

4. First-Class Package Service Contract 19 (MC2012-52 and CP2012-64) added October 11, 2012 (Order No. 1497);

5. First-Class Package Service Contact 20 (MC2012-53 and CP2012-65), added October 11, 2012 (Order No. 1498);

6. Express Mail & Priority Mail Contract 10 (MC2012-54 and CP2012-66), added October 11, 2012 (Order No. 1499);

7. Priority Mail Contract 44 (MC2013-2 and CP2013-2) added October 11, 2012 (Order 1493); and

8. Express Mail & Priority Mail Contract 11 (MC2013-1 and CP2013-1) added October 22, 2012 (Order No. 1509).

Updated product lists. The referenced changes to the competitive product list are included in the product lists following the Secretary's signature.

List of Subjects in 39 CFR Part 3020

Administrative practice and procedure; Postal Service.

By the Commission.
Shoshana M. Grove,
Secretary.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise Appendix A to Subpart A of Part 3020—Mail Classification Schedule to read as follows:

Appendix A to Subpart A of Part 3020—Mail Classification Schedule

Part A—Market Dominant Products

1000 Market Dominant Product List

First-Class Mail

Single-Piece Letters/Postcards

Bulk Letters/Postcards

Flats

Parcels

Outbound Single-Piece First-Class Mail International

Inbound Single-Piece First-Class Mail International

Standard Mail (Regular and Nonprofit)

High Density and Saturation Letters

High Density and Saturation Flats/Parcels

Carrier Route

Letters

Flats

Not Flat-Machinables (NFMs)/Parcels

Periodicals

Within County Periodicals

Outside County Periodicals

Package Services

Single-Piece Parcel Post

Inbound Surface Parcel Post (at UPU rates)

Bound Printed Matter Flats

Bound Printed Matter Parcels

Media Mail/Library Mail

Special Services

Ancillary Services

International Ancillary Services

Address Management Services

Caller Service

Change-of-Address Credit Card Authentication

Confirm

Customized Postage

International Reply Coupon Service

International Business Reply Mail Service

Money Orders

Post Office Box Service Stamp Fulfillment Services

Negotiated Service Agreements

HSBC North America Holdings Inc. Negotiated Service Agreement

Bookspan Negotiated Service Agreement

Bank of America Corporation Negotiated Service Agreement

The Bradford Group Negotiated Service Agreement

Inbound International

Canada Post—United States Postal Service Contractual Bilateral Agreement for Inbound Market Dominant Services (MC2010-12 and R2010-2)

The Strategic Bilateral Agreement Between United States Postal Service and Koninklijke TNT Post BV and TNT Postl pakketservice Benelux BV, collectively “TNT Post” and China Post Group-United States Postal Service Letter Post Bilateral Agreement (MC2010-35, R2010-5 and R2010-6)

Market Dominant Product Descriptions

First-Class Mail

Single-Piece Letters/Postcards

Bulk Letters/Postcards

Flats

Parcels

Outbound Single-Piece First-Class Mail International

Inbound Single-Piece First-Class Mail International

Standard Mail (Regular and Nonprofit)

High Density and Saturation Letters

High Density and Saturation Flats/Parcels

Carrier Route

Letters

[Reserved for Product Description]

Flats

Not Flat-Machinables (NFMs)/Parcels

Periodicals

Within County Periodicals

Outside County Periodicals

Package Services

Single-Piece Parcel Post

Inbound Surface Parcel Post (at UPU rates)

Bound Printed Matter Flats

Bound Printed Matter Parcels

Media Mail/Library Mail

Special Services

Ancillary Services

Address Correction Service

Applications and Mailing Permits

Business Reply Mail

Bulk Parcel Return Service

Certified Mail

Certificate of Mailing

Collect on Delivery

Delivery Confirmation

Insurance

Merchandise Return Service

Parcel Airlift (PAL)

Registered Mail

Return Receipt

Return Receipt for Merchandise

Restricted Delivery

Shipper-Paid Forwarding

Signature Confirmation

Special Handling

Stamped Envelopes

Stamped Cards

Premium Stamped Stationery

Premium Stamped Cards

International Ancillary Services

International Certificate of Mailing

International Registered Mail

International Return Receipt

International Restricted Delivery

Address List Services

Caller Service

Change-of-Address Credit Card Authentication

Confirm

International Reply Coupon Service

International Business Reply Mail Service

Money Orders

Post Office Box Service

[Reserved for Product Description]

Negotiated Service Agreements

HSBC North America Holdings Inc. Negotiated Service Agreement

Bookspan Negotiated Service Agreement

Bank of America Corporation Negotiated Service Agreement

The Bradford Group Negotiated Service Agreement

Part B—Competitive Products

2000 Competitive Product List

Express Mail

Express Mail

Outbound International Expedited Services

Inbound International Expedited Services

Inbound International Expedited Services 1 (CP2008-7)

Inbound International Expedited Services 2 (MC2009-10 and CP2009-12)

Inbound International Expedited Services 3 (MC2010-13 and CP2010-12)

Inbound International Expedited Services 4 (MC2010-37 and CP2010-126)

Priority Mail

Priority Mail

Outbound Priority Mail International

Inbound Air Parcel Post (at non-UPU rates)

Royal Mail Group Inbound Air Parcel Post Agreement

Inbound Air Parcel Post (at UPU rates)

Parcel Return Service

Parcel Select

International

International Priority Airlift (IPA)

International Surface Airlift (ISAL)

International Direct Sacks—M-Bags

Global Customized Shipping Services

Inbound Surface Parcel Post (at non-UPU rates)

Canada Post—United States Postal Service Contractual Bilateral Agreement for Inbound Competitive Services (MC2010-14 and CP2010-13—Inbound Surface Parcel Post at Non-UPU Rates and Xpresspost-USA)

International Money Transfer Service—Outbound

International Money Transfer Service—Inbound

International Ancillary Services

Special Services

Address Enhancement Service

Greeting Cards and Stationery

Premium Forwarding Service

Shipping and Mailing Supplies

Negotiated Service Agreements

Domestic

Express Mail Contract 1 (MC2008-5)

Express Mail Contract 2 (MC2009-3 and CP2009-4)

Express Mail Contract 3 (MC2009-15 and CP2009-21)

Express Mail Contract 4 (MC2009-34 and CP2009-45)

Express Mail Contract 5 (MC2010-5 and CP2010-5)

Express Mail Contract 6 (MC2010-6 and CP2010-6)

Express Mail Contract 7 (MC2010-7 and CP2010-7)

Express Mail Contract 8 (MC2010-16 and CP2010-16)

Express Mail Contract 9 (MC2011-1 and CP2011-2)

Express Mail & Priority Mail Contract 1 (MC2009-6 and CP2009-7)

Express Mail & Priority Mail Contract 2 (MC2009-12 and CP2009-14)

Express Mail & Priority Mail Contract 3 (MC2009-13 and CP2009-17)

Express Mail & Priority Mail Contract 4 (MC2009-17 and CP2009-24)

Express Mail & Priority Mail Contract 5 (MC2009-18 and CP2009-25)

Express Mail & Priority Mail Contract 6 (MC2009-31 and CP2009-42)

Express Mail & Priority Mail Contract 7 (MC2009-32 and CP2009-43)

Express Mail & Priority Mail Contract 8 (MC2009-33 and CP2009-44)

Express Mail & Priority Mail Contract 10 (MC2012-54 and CP2012-66)

Express Mail & Priority Mail Contract 11 (MC2013-1 and CP2013-1)

First-Class Package Service Contract 16 (MC2012-49 and CP2012-61)

First-Class Package Service Contract 17 (MC2012-50 and CP2012-62)

First-Class Package Service Contract 18 (MC2012-51 and CP2012-63)

First-Class Package Service Contract 19 (MC2012-52 and CP2012-64)

First-Class Package Service Contract 20 (MC2012-53 and CP2012-65)

Parcel Select & Parcel Return Service Contract 1 (MC2009-11 and CP2009-13)

Parcel Return Service Contract 1 (MC2009-1 and CP2009-2)

Parcel Return Service Contract 2 (MC2011-6 and CP2011-33)

Parcel Select & Parcel Return Service Contract 2 (MC2009-40 and CP2009-61)

Priority Mail Contract 1 (MC2008-8 and CP2008-26)

Priority Mail Contract 2 (MC2009-2 and CP2009-3)

Priority Mail Contract 3 (MC2009-4 and CP2009-5)

Priority Mail Contract 4 (MC2009-5 and CP2009-6)

Priority Mail Contract 5 (MC2009-21 and CP2009-26)

Priority Mail Contract 6 (MC2009-25 and CP2009-30)

Priority Mail Contract 7 (MC2009-25 and CP2009-31)

Priority Mail Contract 8 (MC2009-25 and CP2009-32)

Priority Mail Contract 9 (MC2009-25 and CP2009-33)

Priority Mail Contract 10 (MC2009-25 and CP2009-34)

Priority Mail Contract 11 (MC2009-27 and CP2009-37)

Priority Mail Contract 12 (MC2009-28 and CP2009-38)

Priority Mail Contract 13 (MC2009-29 and CP2009-39)

Priority Mail Contract 14 (MC2009-30 and CP2009-40)

Priority Mail Contract 15 (MC2009-35 and CP2009-54)

Priority Mail Contract 16 (MC2009-36 and CP2009-55)

Priority Mail Contract 17 (MC2009-37 and CP2009-56)

Priority Mail Contract 18 (MC2009-42 and CP2009-63)

Priority Mail Contract 19 (MC2010-1 and CP2010-1)

Priority Mail Contract 20 (MC2010-2 and CP2010-2)

Priority Mail Contract 21 (MC2010-3 and CP2010-3)

Priority Mail Contract 22 (MC2010-4 and CP2010-4)

Priority Mail Contract 23 (MC2010-9 and CP2010-9)

Priority Mail Contract 24 (MC2010-15 and CP2010-15)

Priority Mail Contract 25 (MC2010-30 and CP2010-75)

Priority Mail Contract 26 (MC2010-31 and CP2010-76)

Priority Mail Contract 27 (MC2010-32 and CP2010-77)

Priority Mail Contract 28 (MC2011-2 and CP2011-3)

Priority Mail Contract 29 (MC2011-3 and CP2011-4)

Priority Mail Contract 44 (MC2013-2 and CP2013-2)

Outbound International

Direct Entry Parcels Contracts

Direct Entry Parcels 1 (MC2009-26 and CP2009-36)

Global Direct Contracts (MC2009-9, CP2009-10, and CP2009-11)

Global Expedited Package Services (GEPS) Contracts

GEPS 1 (CP2008-5, CP2008-11, CP2008-12, CP2008-13, CP2008-18, CP2008-19, CP2008-20, CP2008-21, CP2008-22, CP2008-23 and CP2008-24)

Global Expedited Package Services 2 (CP2009-50)

Global Expedited Package Services 3 (MC2010-28 and CP2010-71)

Global Expedited Package Services—Non-published Rates 2 (MC2010-29 and CP2011-45)

Global Plus Contracts

Global Plus 1 (CP2008-8, CP2008-46 and CP2009-47)

Global Plus 1A (MC2010-26, CP2010-67 and CP2010-68)

Global Plus 1B (MC2011-7, CP2011-39 and CP2011-40)

Global Plus 2 (MC2008-7, CP2008-48 and CP2008-49)

Global Plus 2A (MC2010-27, CP2010-69 and CP2010-70)

Global Plus 2B (MC2011-8, CP2011-41 and CP2011-42)

Inbound International

Inbound Competitive Multi-Service Agreements with Foreign Postal Operators 1 (MC2010-34 and CP2010-95)

Inbound Direct Entry Contracts with Foreign Postal Administrations

Inbound Direct Entry Contracts with Foreign Postal Administrations (MC2008-6, CP2008-14 and MC2008-15)

Inbound Direct Entry Contracts with Foreign Postal Administrations 1 (MC2008-6 and CP2009-62)

International Business Reply Service Competitive Contract 1 (MC2009-14 and CP2009-20)

International Business Reply Service Competitive Contract 2 (MC2010-18, CP2010-21 and CP2010-22)

Competitive Product Descriptions

Express Mail

Express Mail

Outbound International Expedited Services

Inbound International Expedited Services

Priority

Priority Mail

Outbound Priority Mail International

Inbound Air Parcel Post

Parcel Select

Parcel Return Service

International

International Priority Airlift (IPA)

International Surface Airlift (ISAL)

International Direct Sacks—M-Bags

Global Customized Shipping Services

International Money Transfer Service

Inbound Surface Parcel Post (at non-UPU rates)

International Ancillary Services

International Certificate of Mailing

International Registered Mail

International Return Receipt

International Restricted Delivery

International Insurance

Negotiated Service Agreements

Domestic

Outbound International

Part C—Glossary of Terms and Conditions [Reserved]

Part D—Country Price Lists for International Mail [Reserved]

[FR Doc. 2013-20186 Filed 8-19-13; 8:45 am]

BILLING CODE 7710-FW-P